DEPARTMENT OF LABOR

Agency Information Collection Activities; Submission for OMB Review; Comment Request; Office of Federal Contract Compliance Programs Construction Recordkeeping and Reporting Requirements

AGENCY: Office of the Secretary, Department of Labor.

ACTION: Notice of availability; request for comments.

SUMMARY: The Department of Labor (DOL) is submitting the Office of Federal Contract Compliance Programs sponsored information collection request (ICR) revision titled, “Office of Federal Contract Compliance Programs Construction Recordkeeping and Reporting Requirements,” to the Office of Management and Budget (OMB) for review and approval for use in accordance with the Paperwork Reduction Act (PRA) of 1995. Public comments on the ICR are invited.

DATES: The OMB will consider all written comments that agency receives on or before May 10, 2018.

ADDRESSES: A copy of this ICR with applicable supporting documentation; including a description of the likely respondents, proposed frequency of response, and estimated total burden may be obtained free of charge from the RegInfo.gov website at http://www.reginfo.gov/public/do/PRAViewICR?ref_nbr=201801-1250-001 or by contacting Michel Smyth by telephone at 202-693-4129, TTY 202-693-8064, (these are not toll-free numbers) or sending an email to DOL_PRA_PUBLIC@dol.gov.

Submit comments about this request by mail to the Office of Information and Regulatory Affairs, Attn: OMB Desk Officer for DOL-OFCCP, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW, Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

SUPPLEMENTARY INFORMATION: This ICR seeks approval under the PRA for revisions to the Office of Federal Contract Compliance Programs (OFCCP) Construction Recordkeeping and Reporting Requirements information collection that covers recordkeeping, reporting, and third-party disclosure requirements. The OFCCP administers several Executive Orders that prohibit employment discrimination and require covered Federal contractors to take affirmative action to ensure that equal employment opportunities are available regardless of race, sex, color, national origin, religion, or status as an individual with a disability or protected veteran. Recordkeeping and reporting by Federal and Federally assisted construction contractors and subcontractors is necessary to substantiate their compliance with nondiscrimination and affirmative action contractual obligations. This information collection has been classified as a revision for two reasons. First, the agency proposes to add a new form for the reporting requirement found at 41 CFR 60-4.2, which requires contracting officers, applicants, and contractors to submit written notifications to the OFCCP informing the agency of new contract awards that exceed $10,000. Written notices are currently submitted to the OFCCP by fax, mail, or email; however, the new form will allow respondents to submit the notifications on the agency's website through the proposed Notification of Construction Contract Award Portal. In addition, this ICR would incorporate information collections that are currently approved under the ICRs titled “Government Contractors, Prohibitions Against Pay Secrecy Policies and Actions” (Control Number 1250-0008) and “Prohibiting Discrimination Based on Sexual Orientation and Gender Identity by Contractors and Subcontractors” (Control Number 1250-0009). The merger of the collections will place related equal employment requirements for covered Federal construction contractors under master clearances.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1250-0001. The DOL notes that existing information collection requirements submitted to the OMB receive a month-to-month extension while they undergo review. New requirements would only take effect upon OMB approval. For additional substantive information about this ICR, see the related notice published in the Federal Register on September 25, 2017 (82 FR 44663).

Interested parties are encouraged to send comments to the OMB, Office of Information and Regulatory Affairs at the address shown in the ADDRESSES section within thirty (30) days of publication of this notice in the Federal Register. In order to help ensure appropriate consideration, comments should mention OMB Control Number 1250-0001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OFCCP.

Title of Collection: Office of Federal Contract Compliance Programs Construction Recordkeeping and Reporting Requirements.

OMB Control Number: 1250-0001.

Affected Public: Private Sector—businesses or other for-profits and not-for-profit institutions.

Total Estimated Number of Respondents: 15,582.

Total Estimated Number of Responses: 15,582.

Total Estimated Annual Time Burden: 985,450 hours.

Total Estimated Annual Other Costs Burden: $42,920.

Authority: 44 U.S.C. 3507(a)(1)(D).

Michel Smyth,
Departmental Clearance Officer.

[FR Doc. 2018-07288 Filed 4-9-18; 8:45 am]

BILLING CODE 4510-CM-P